DEPARTMENT OF COMMERCE

National Oceanic and Atmospheric Administration

50 CFR Part 648

[I.D. 062901B]

New England Fishery Management Council; Public Meeting

AGENCY: National Marine Fisheries Service (NMFS), National Oceanic and Atmospheric Administration (NOAA), Commerce.

ACTION: Public meeting.

SUMMARY: The New England Fishery Management Council (Council) will hold a 3-day Council meeting, on July 24 through July 26, 2001, to consider actions affecting New England fisheries in the exclusive economic zone (EEZ).

DATES: The meeting will be held on Tuesday, Wednesday, and Thursday, July 24, 25, and 26, 2001. The meeting will begin at 1:00 p.m. on Tuesday and 8:30 a.m. on Wednesday and Thursday.

ADDRESSES: The meeting will be held at the Holiday Inn by the Bay, 88 Spring Street, Portland, ME 04101; telephone (207) 775-2311. Requests for special accommodations should be addressed to the New England Fishery Management Council, 50 Water Street, Mill 2, Newburyport, MA 01950; telephone (978) 465-0492.

FOR FURTHER INFORMATION CONTACT: Paul J. Howard, Executive Director, New England Fishery Management Council (978) 465-0492.

SUPPLEMENTARY INFORMATION:

Tuesday, July 24, 2001

After introductions, the Council meeting will begin with reports on recent activities from the Council Chairman and Executive Director, the NMFS Regional Administrator, Northeast Fisheries Science Center and Mid-Atlantic Fishery Management Council liaisons, NOAA General Counsel and representatives of the U.S. Coast Guard, NMFS Enforcement and the Atlantic States Marine Fisheries Commission. A brief period will be held for public comment on any relevant subject related to Council business. The Herring Committee will discuss and ask the Council to approve initial action on Framework Adjustment 1 to the Atlantic Herring Fishery Management Plan (FMP). The primary measures under consideration would split the total allowable catch (TAC) for Management Area 1A into two periods: January through May (6,000 mt) and June through December (54,000 mt plus any unused portion from January to May). When 95 percent of the quota for either period is projected to be reached, directed fishing would cease in Area 1A and a 2,000-pound trip limit would take effect. A review of the discussions between U.S. and Canadian fisheries representatives serving on the Transboundary Management Guidance Committee will follow the Herring Committee Report.

Wednesday, July 25, 2001

The day will start with a presentation on bioeconomic modeling and its application to fisheries management, using the American lobster fishery as a case study. Northeast Fisheries Science Center staff will hold a public review workshop to present the advisory from the 33rd Stock Assessment Workshop concerning the status of Gulf of Maine cod, redfish, and white hake. In its report, the Groundfish Committee intends to ask the Council to approve final action on Framework Adjustment 36 to the Northeast Multispecies FMP. Measures under consideration would address Gulf of Maine cod discards and mortality, an extension of or adjustment to the Western Gulf of Maine Closed Area, tuna purse seine access to the groundfish closed areas, and an expansion of the area in which the northern shrimp fishery is allowed.

Thursday, July 26, 2001

During Thursday’s session, the Sea Scallop Committee will ask the Council to approve draft management measures to be analyzed in the Draft Supplemental Environmental Impact Statement for Amendment 10 to the Sea Scallop FMP. The discussion will include review of Scallop Committee, Plan Development Team and Advisory Panel recommendations. Measures under consideration include options that would address scallop area rotation and management; managing scallop catch from re-opened and open fishing areas; gear modifications to reduce scallop and finfish bycatch; general category permit management proposals; framework adjustments and annual specifications; programs to fund and administer scallop research and on-board observers; data collection and monitoring; and other measures. The Council also will discuss and may approve a control date for scallop fishing by vessels not on a scallop day-at-sea. A control date may be necessary because the Council is considering whether to limit the access of vessels holding general category permits as part of Amendment 10 to the Scallop FMP. The control date could apply to any vessel with or without a general category permit and/or to vessels that have a limited access scallop permit and that fish for sea scallops while not on a day-at-sea. Prior to meeting adjournment, the Red Crab Committee will provide an update on progress concerning development a Red Crab FMP, including management alternatives, an overfishing definition, and the collection of social and economic information.

Although other non-emergency issues not contained in this agenda may come before this Council for discussion, those issues may not be the subjects of formal action during this meeting. Council action will be restricted to those issues specifically listed in this notice and any issues arising after publication of this notice that require emergency action under section 305(c) of the Magnuson-Stevens Act, provided the public has been notified of the Council's intent to take final action to address the emergency.

The New England Council will consider public comments at a minimum of two Council meetings before making recommendations to the National Marine Fisheries Service Regional Administrator on any framework adjustment to a fishery management plan. If she concurs with the adjustment proposed by the Council, the Regional Administrator has the discretion to publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: July 3, 2001
Richard W. Surdi,
Acting Director, Office of Sustainable Fisheries, National Marine Fisheries Service.

[FR Doc. 01-17366 Filed 7-10-01; 8:45 am]

BILLING CODE 3510-22-S